DEPARTMENT OF THE TREASURY

Internal Revenue Service

26 CFR Part 1

[TD 9529]

RIN 1545-BK01

Requirements for Taxpayers Filing Form 5472; Correction

AGENCY: Internal Revenue Service (IRS), Treasury.

ACTION: Correcting amendment.

SUMMARY: This document contains correcting amendments to temporary regulations (TD 9529) that were published in the Federal Register on Friday, June 10, 2011 (76 FR 33997) removing the duplicate filing requirement for Form 5472, “Information Return of a 25% Foreign-Owned U.S. corporation or a Foreign Corporation Engaged in a U.S. Trade or Business.”

DATES: This correction is effective on June 24, 2011, and is applicable on June 10, 2011.

FOR FURTHER INFORMATION CONTACT: Gregory A. Spring, (202) 435-5265 (not a toll-free number).

SUPPLEMENTARY INFORMATION:

Background

The temporary regulations that are the subject of this correction are under section 6038A of the Internal Revenue Code.

Need for Correction

As published, temporary regulations (TD 9529) contain errors that may prove to be misleading and are in need of clarification.

List of Subjects in 26 CFR Part 1

Income taxes, Reporting and recordkeeping requirements.

Correction of Publication

Accordingly, 26 CFR part 1 is corrected by making the following correcting amendments:

PART 1—INCOME TAXES

Paragraph 1. The authority citation for part 1 continues to read in part as follows:

Authority: 26 U.S.C. 7805 * * *

Par. 2. Section 1.6038A-1T is amended by adding paragraph (o) to read as follows:

§ 1.6038A-1T General requirements and definitions (temporary).

* * * * *

(o) Expiration date. The applicability of this section expires on June 10, 2014.

* * * * *

Par. 3. Section 1.6038A-2T is amended by adding paragraph (i) to read as follows:

§ 1.6038A-2T Requirement of return (temporary).

* * * * *

(i) Expiration date. The applicability of this section expires on June 10, 2014.

* * * * *

LaNita Van Dyke,
Chief, Publications and Regulations Branch, Legal Processing Division, Associate Chief Counsel (Procedure and Administration).

[FR Doc. 2011-15943 Filed 6-23-11; 8:45 am]

BILLING CODE 4830-01-P